SMALL BUSINESS ADMINISTRATION

[License No. 03/03-0263]

Argosy Investment Partners V, L.P.; Notice Seeking Exemption Under the Small Business Investment Act, Conflicts of Interest

Notice is hereby given that Argosy Investment Partners V, L.P., 950 West Valley Road, Suite 2900, Wayne, PA 19087, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Argosy Investment Partners V, L.P. is seeking post-financing approval from SBA for loan and equity financings it made to POSC Holdings LLC, formerly known as Panhandle Oilfield Service Companies, Inc., 14000 Quail Springs Parkway, Suite 300, Oklahoma City, OK 73134.

The financing is brought within the purview of § 107.730(a)(1) of the Regulations because Argosy Investment Partners IV, L.P., an Associate of Argosy Investment Partners V, L.P., owns more than ten percent of POSC Holdings LLC, and therefore this transaction is considered Financing an Associate requiring prior SBA approval. Argosy Investment Partners V, L.P. has already made its investments in POSC Holdings LLC and is seeking post-financing SBA approval.

Notice is hereby given that any interested person may submit written comments on this transaction within fifteen days of the date of this publication to the Associate Administrator, Office of Investment and Innovation, U.S. Small Business Administration, 409 Third Street SW, Washington, DC 20416.

A. Joseph Shepard,
Associate Administrator for Office of Investment and Innovation.

[FR Doc. 2018-16205 Filed 7-27-18; 8:45 am]

BILLING CODE P